DEPARTMENT OF THE INTERIOR

National Park Service

Notice of Multiple National Natural Landmark Boundary Changes and De-designations

AGENCY: National Park Service, Interior.

ACTION: Public Notice of National Natural Landmark Boundary Changes and De-designations.

SUMMARY: Secretarial action on May 9, 2006, formally removed National Natural Landmark (NNL) designations in response to owner requests. This action resulted in boundary changes to 66 NNLs and complete de-designation of 8 NNLs.

FOR FURTHER INFORMATION CONTACT: Dr. Margaret Brooks at 520-670-6501 extension 232.

SUPPLEMENTARY INFORMATION: Secretarial action pursuant to 36 CFR 62.8(f)(3) occurred on May 9, 2006. This action formally removed National Natural Landmark (NNL) designations in response to owner requests. all such requests that have been fully processed have been granted. These removals resulted in the de-designation of eight NNLS, listed below, and boundary adjustments to 66 additional NNLs, also listed below. these de-designations and boundary adjustments were reviewed by the National Park Service Advisory Board in July 2004 prior to being presented to the Secretary for action. notification of the owners who requested that the designation be removed from their property was made at the start of the removal process in 2000. By regulation, this is a one-time action, and all removal requests pertaining to the 74 NNLs listed below were granted. Requests for removal from other NNLs are still being processed.

The following National Landmarks were de-designated:

Alaska: Middleton Island

Georgia: Sag Ponds Natural Area; Spooner Springs

Maine: Meddybemps Heath

New York: Gardiner's Island

West Virginia: Swago Karst

Wyoming: Bone Cabin; Lance Creek

The boundaries of the following National Natural Landmarks were revised:

Alabama: Newsome Sinks Karst Area

Alaska: Lake George; Malaspina Glacier; Mount Veniamenof

California: American River Bluffs & Phoenix Park Vernal Pools; Dixon Vernal Pools; Elder Creek; Imperial Sand Hills, Mt. Diablo State Park; Nipomo Dunes-Point Sal Coastal Area

Colorado: Slumgullion Earth Flow; Spanish Peaks

Connecticut: Chester Cedar Swamp; Pachaug-Great Meadow Swamp

Florida: Emeralda MarshPaynes Prairie; San Felasco Hammock

Georgia: Ebenezer Creek Swamp

Idaho: Menan Buttes

Illinois: Lower Cache River Swamp; Markham Prairie

Indiana: Big Walnut Creek

Kansas: Baldwin Woods

Kentucky: Henderson Sloughs

Maine: Appleton Bog Atlantic White Cedar Stand; Orono Bog; Passadumkeag Marsh and Boglands; Penny Pond-Joe Pond Complex

Massachusetts: Lynfield Marsh; North and South Rivers

Minnesota: Upper Red Lake Peatland

Nebraska: Dissected Loess Plains; Nebraska Sand Hills

New Jersey: Pigeon Swamp; Troy Meadows

New Mexico: Border Hills Structural Zone; Kilbourne Hole

North Carolina: Smith Island

North Dakota: Fischer Lake; Rush Lake; Sibley Lake

Oregon: Newberry Crater

Pennsylvania: Pine Creek Gorge; Tannersville Cranberry Bog

South Dakota: Cottonwood Slough-Dry Run; Lake Thompson

Tennessee: Grassy Cove Karst Area

Texas: Catfish Creek

Vermont: Cornwall Swamp; Franklin Bog

U.S. Virgin Islands: Coki Point Cliffs; Sand Point

Virginia: Grand Caverns

Washington: Boulder Park & McNeil Canyon Haystack; Drumheller Channels; Grand Ronde Goosenecks; Sims Corner Eskers and Kames; Steptoe and Kamaiak Buttes; Withrow Moraine & Jamison Lake Drumlin

West Virginia: Organ Cave System (Greenbirar Caverns)

Wisconsin: Cedarburg Bog; Ridges Santuary-Toft's Point-Mud Lake Area

Wyoming: Big Hollow; Como Bluff; Red Canyon; Sand Creek

The Secretary of the Interior established the National Natural Landmarks Program in 1962 under the authority of the Historic Sites Act of 1935 (16 U.S.C. 461 et seq.). The National Park Service (NPS) manages this program using regulations found at 36 CFR part 62. Potential natural landmarks are identified in studies by the NPS and from other sources, evaluated by expert natural scientists, and, if determined nationally significant, designated as landmarks by the Secretary of the Interior. When designated, a landmark is included in the National Registry of Natural Landmarks, which currently lists 580 National Natural Landmarks nationwide. Of the 580 listed landmarks, half are administered solely by public agencies; ie., Federal, State, county or municipal governments. nearly one-third are owned solely by private parties. The remaining natural landmarks are owned or administered by a mixture of public and private owners. Because many natural landmarks are privately owned or not managed for public access, owner permission must be obtained to visit them. Designation does not infer a right of public access.

National natural landmark designation is not a land withdrawal, does not change the ownership of an area and does not dictate activity. However, Federal agencies should consider impacts to the unique properties of these nationally significant areas in carrying out their responsibilities under the National Environmental Policy Act (42 U.S.C. 3232 et seq.). Designation could result in state or local planning or land use implications. National Natural Landmark preservation is made possible by the long-term, voluntary commitments of public and private owners to protect the outstanding values of the areas. Information on the National Natural Landmarks Program can be found in 36 CFR part 62 or on the Internet at http://www.nature.nps.gov/nnl.

Dated: June 19, 2006.
Margaret A. Brooks,
National Natural Landmarks Program Manager.

[FR Doc. 06-6313 Filed 7-18-05; 8:45 am]

BILLING CODE 4310-70-M